DEPARTMENT OF VETERANS AFFAIRS

Advisory Committee on Minority Veterans; Notice of Meeting

The Department of Veterans Affairs (VA) gives notice under the Public Law 92-463 (Federal Advisory Committee Act) that the Advisory Committee on Minority Veterans will meet on April 6-10, 2009. On April 6-7, the Committee will meet in Room 230 at the Department of Veterans Affairs, 810 Vermont Avenue, NW., Washington, DC from 9 a.m. to 4 p.m. On April 8-10, the Committee will meet at the Baltimore Marriott Inner Harbor at Camden Yards, 110 South Eutaw Street, Baltimore, Maryland, from 8 a.m. to 5 p.m. The meeting is open to the public.

The purpose of the Committee is to advise the Secretary on the administration of VA benefits and services to minority veterans, to assess the needs of minority veterans and to evaluate whether VA compensation, medical and rehabilitation services, outreach, and other programs are meeting those needs. The Committee makes recommendations to the Secretary regarding such activities.

On April 6, the agenda will include briefings and updates on the Center for Minority Veterans and the United States Court of Appeals for Veteran Claims. On April 7, the agenda will include briefings and updates on the Center for Women Veterans, Women Veterans Health Strategic Health Care Group, Human Resources, Veterans Health Administration, National Cemetery Administration, Veterans Benefits Administration, and Board of Veterans Appeals. In the evening, the Committee will hold a town hall meeting at the Washington, DC, VA Medical Center, 50 Irving St., NW., Washington, DC, beginning at 6:30 p.m. On April 8, the agenda will include briefings and updates on the American Indian/Alaska Native Ad Hoc Work Group, and from a Veterans Service Organizations panel. In the afternoon, the Committee will tour the Maryland Center for Veterans Education and Training. On April 9, the agenda will include briefings and a tour of the Baltimore VA Medical Center and Regional Office. In the evening, the Committee will hold a town hall meeting at the Baltimore Marriott Inner Harbor at Camden Yards, 110 S. Eutaw St., Baltimore, MD, beginning at 6:30 p.m. On April 10, the Committee will review and analyze comments presented during the meetings to prepare a draft of the meeting minutes and to discuss future site visits and areas of focus.

Any member of the public wishing to attend should contact Juanita J. Mullen or Ron Sagudan, Department of Veterans Affairs, Center for Minority Veterans (00M), 810 Vermont Avenue, NW., Washington, DC 20420. They may be contacted either by phone at (202) 461-6191, fax at (202) 273-7092, or e-mail at Juanita.mullen@va.gov or Ronald.sagudan@va.gov. Interested persons may attend, appear before, or file statements with the Committee. Written statements must be filed before the meeting, or within 10 days after the meeting.

Dated: March 13, 2009.
By Direction of the Secretary.
E. Philip Riggin,
Committee Management Officer.

[FR Doc. E9-6109 Filed 3-19-09; 8:45 am]

BILLING CODE 8320-01-P